DEPARTMENT OF LABOR

Bureau of Labor Statistics

Information Collection Activities; Comment Request

AGENCY: Bureau of Labor Statistics, Department of Labor.

ACTION: Notice of information collection; request for comment.

SUMMARY: The Department of Labor, as part of its continuing effort to reduce paperwork and respondent burden, conducts a pre-clearance consultation program to provide the general public and Federal agencies with an opportunity to comment on proposed and/or continuing collections of information in accordance with the Paperwork Reduction Act of 1995. This program helps to ensure that requested data can be provided in the desired format, reporting burden (time and financial resources) is minimized, collection instruments are clearly understood, and the impact of collection requirements on respondents can be properly assessed. The Bureau of Labor Statistics (BLS) is soliciting comments concerning the proposed extension of the “Occupational Requirements Survey.” A copy of the proposed information collection request can be obtained by contacting the individual listed below in the Addresses section of this notice.

DATES: Written comments must be submitted to the office listed in the Addresses section of this notice on or before December 1, 2025.

ADDRESSES: Send comments to Nora Kincaid, BLS Clearance Officer, Division of Management Systems, Bureau of Labor Statistics, by email to BLS_PRA_Public@bls.gov.

FOR FURTHER INFORMATION CONTACT: Nora Kincaid, BLS Clearance Officer, at 202-691-7628 (this is not a toll free number). (See Addresses section.)

SUPPLEMENTARY INFORMATION:

I. Background

The Occupational Requirements Survey (ORS) is a nationwide survey that the Bureau of Labor Statistics (BLS) is conducting at the request of the Social Security Administration (SSA). Three years of data collection and capture for the ORS will start in 2026 and end in mid-2029.

Estimates produced from the data collected by the ORS will be considered by the SSA to update occupational requirements data used in administering the Social Security Disability Insurance (SSDI) and Supplemental Security Income (SSI) programs.

The ORS occupational information will allow SSA adjudicators to associate the assessment of a claimant's physical and mental functional capacity and vocational profile with work requirements. BLS will compute percentages of workers with various characteristics, such as skill and strength level. SSA will use this information to provide statistical support for the medical-vocational rules used during the assessment process regarding the number of jobs that exist at each occupational requirement level in the national economy.

The Social Security Administration, Members of Congress, and representatives of the disability community have all identified collection of updated information on the requirements of work in today's economy as crucial to the equitable and efficient operation of the Social Security Disability (SSDI) program.

The ORS collects data from a sample of employers. Collected work data consist of occupational task lists, defined as the critical job function and key job tasks, to validate the reported requirements of work.

II. Current Action

Office of Management and Budget clearance is being sought for the Occupational Requirements Survey.

The ORS collects data on the requirements of work, as defined by the SSA's disability program:

(1) Education, Training and Experience, measures include an indicator of “time to proficiency,” defined as the minimum amount of preparation time required by a typical worker to learn the techniques, acquire the information, and develop the aptitude needed for performance in a specific job. This indicator is comparable to the Specific Vocational Preparation (SVP) used in the Dictionary of Occupational Titles (DOT).

(2) Physical Demands, characteristics/factors of occupations, measured in such a way to support SSA disability determination needs. These measures are comparable to measures in Appendix C of the Selected Characteristics of Occupations (SCO).

(3) Environmental Conditions, measured in such a way to support SSA disability determination needs, comparable to measures in Appendix D of the SCO.

(4) Mental and Cognitive Demands, measures include work setting, review, pace, in addition to personal contacts.

The ORS also collects the following supporting data to validate reported requirements:

• Occupational task lists, defined as the critical job function and key job tasks, to validate the reported requirements of work. These task lists are comparable to data identified in the Employment and Training Administration's (ETA) Occupational Information Network (O*NET) Program.

BLS will disseminate the data from the ORS on the BLS public website (www.bls.gov/ors). The design uses an eight-year rotation with complete estimates published after the full sample has been collected in July 2031 with final estimates published no later than the second quarter of FY 2032. Interim results will be produced and disseminated on an annual basis.

ORS collection uses several forms for private industry and government collection. Only one form version is used per interview based on what best meets an individual field economist's note taking needs for a given interview.

ORS data are defined to balance SSA's adjudication needs with the ability of the respondent to provide data. With this clearance, BLS is continuing collection of existing data.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Title of Collection: Occupational Requirements Survey.

OMB Number: 1220-0189.

Type of Review: Extension of a currently approved collection.

Affected Public: Businesses or other for-profit; not-for-profit institutions; and State, local, and tribal government.

| Respondents | Average responses per year | Total number of responses | Average minutes | Total hours
Total Average | 6,346 | 1.00 | 6,346 | 53.46 | 5,669

Comments submitted in response to this notice will be summarized and/or included in the request for Office of Management and Budget approval of the information collection request; they also will become a matter of public record.

Signed on September 26, 2025.
Eric Molina,
Chief, Division of Management Systems, Branch of Policy Analysis.

[FR Doc. 2025-19132 Filed 9-30-25; 8:45 am]

BILLING CODE 4510-24-P